DEPARTMENT OF HOMELAND SECURITY

Federal Emergency Management Agency

44 CFR Part 65

[Docket ID FEMA-2012-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Associate Administrator for Mitigation has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Jefferson (FEMA Docket No.: B-1244) | City of Birmingham (11-04-6751P) | December 2, 2011; December 9, 2011; The Birmingham News | The Honorable William Bell, Mayor, City of Birmingham, 710 North 20th Street, Birmingham, AL 35203 | April 9, 2012 | 010116
Jefferson (FEMA Docket No.: B-1244) | City of Mountain Brook (11-04-6751P) | December 2, 2011; December 9, 2011; The Birmingham News | The Honorable Lawrence Terry Oden, Mayor, City of Mountain Brook, 928 Montclair Road, Mountain Brook, AL 35213 | April 9, 2012 | 010128
Jefferson (FEMA Docket No.: B-1244) | Unincorporated areas of Jefferson County (11-04-6751P) | December 2, 2011; December 9, 2011; The Birmingham News | The Honorable David Carrington, President, Jefferson County Commission, 716 Richard Arrington, Jr. Boulevard North, Birmingham, AL 35203 | April 9, 2012 | 010217
Mobile (FEMA Docket No.: B-1248) | Unincorporated areas of Mobile County (11-04-1740P) | November 24, 2011; December 1, 2011; The Press-Register | The Honorable Connie Hudson, President, Mobile County Commission, 205 Government Street, Mobile, AL 36644 | March 30, 2012 | 015008
Mobile (FEMA Docket No.: B-1240) | Unincorporated areas of Mobile County (11-04-5528P) | December 1, 2011; December 8, 2011; The Press-Register | The Honorable Connie Hudson, President, Mobile County Commission, 205 Government Street, Mobile, AL 36644 | April 6, 2012 | 015008
Arizona:
Maricopa (FEMA Docket No.: B-1240) | City of Glendale (11-09-3464P) | November 24, 2011; December 1, 2011; The Arizona Business Gazette | The Honorable Elaine M. Scruggs, Mayor, City of Glendale, 5850 West Glendale Avenue, Glendale, AZ 85301 | March 30, 2012 | 040045
Maricopa (FEMA Docket No.: B-1240) | City of Peoria (11-09-3464P) | November 24, 2011; December 1, 2011; The Arizona Business Gazette | The Honorable Bob Barrett, Mayor, City of Peoria, 8401 West Monroe Street, Peoria, AZ 85345 | March 30, 2012 | 040050
Colorado:
Arapahoe (FEMA Docket No.: B-1244) | City of Centennial (11-08-0818P) | December 8, 2011; December 15, 2011; The Littleton Independent | The Honorable Cathy Noon, Mayor, City of Centennial, 13133 East Arapahoe Road, Centennial, CO 80112 | April 13, 2012 | 080315
Arapahoe (FEMA Docket No.: B-1244) | City of Centennial (11-08-1095P) | December 8, 2011; December 15, 2011; The Littleton Independent | The Honorable Cathy Noon, Mayor, City of Centennial, 13133 East Arapahoe Road, Centennial, CO 80112 | April 13, 2012 | 080315
Florida:
Broward (FEMA Docket No.: B-1248) | City of Deerfield Beach (12-04-0283P) | December 2, 2011; December 9, 2011; The Sun-Sentinel | The Honorable Peggy Noland, Mayor, City of Deerfield Beach, 150 Northeast 2nd Avenue, Deerfield Beach, FL 33441 | November 22, 2011 | 125101
Broward (FEMA Docket No.: B-1248) | Town of Lauderdale-By-The-Sea (11-04-7642P) | November 3, 2011; November 10, 2011; The Sun-Sentinel | The Honorable Roseann Minnet, Mayor, Town of Lauderdale-By-The-Sea, 4501 Ocean Drive, Lauderdale-By-The-Sea, FL 33308 | October 26, 2011 | 125123
Georgia:
Bryan (FEMA Docket No.: B-1253) | City of Richmond Hill (11-04-4401P) | December 7, 2011; December 14, 2011; The Bryan County News | The Honorable E. Harold Fowler, Mayor, City of Richmond Hill, 40 Richard Davis Drive, Richmond Hill, GA 31324 | November 29, 2011 | 130018
North Carolina:
Dare (FEMA Docket No.: B-1244) | Unincorporated areas of Dare County (11-04-5020P) | September 8, 2011; September 15, 2011; The Coastland Times | The Honorable Warren Judge, Chairman, Dare County Board of Supervisors, 954 Marshall C. Collins Drive, Manteo, NC 27954 | August 30, 2011 | 375348

(Catalog of Federal Domestic Assistance No. 97.022, “Flood Insurance.”)

Dated: August 8, 2012.
Sandra K. Knight,
Deputy Associate Administrator for Mitigation, Department of Homeland Security, Federal Emergency Management Agency.

[FR Doc. 2012-20632 Filed 8-21-12; 8:45 am]

BILLING CODE 9110-12-P